DEPARTMENT OF TRANSPORTATION

Coast Guard

33 CFR Part 117

[CGD07-02-057]

Drawbridge Operation Regulations; Atlantic Intracoastal Waterway, Mile 1069.4 at Dania Beach, Broward County, FL

AGENCY: Coast Guard, DOT.

ACTION: Notice of temporary deviation from regulations.

SUMMARY: The Commander, Seventh Coast Guard District, has approved a temporary deviation from the regulations governing the operation of the Dania Beach Boulevard bridge, mile 1069.4 at Dania Beach, Florida, from June 4, 2002 to July 31, 2002. This deviation allows this bridge to only open a single-leaf of the bridge every 20 minutes. Double-leaf openings will be available with a two-hour advance notice to the bridge tender. This temporary deviation is required to allow the bridge owner to safely complete repairs to the bridge.

DATES: This deviation is effective from 12:01 a.m. on June 4, 2002 to 8 p.m. on July 31, 2002.

ADDRESSES: Material received from the public, as well as documents indicated in this preamble as being available in the docket, will become part of this docket and will be available for inspection or copying at Commander (obr), Seventh Coast Guard District, 909 S.E. 1st Avenue, Room 432, Miami, FL 33131 between 7:30 a.m. and 4 p.m., Monday through Friday, except Federal holidays.

FOR FURTHER INFORMATION CONTACT: Mr. Michael Lieberum, Project Officer, Seventh Coast Guard District, Bridge Section at (305) 415-6744.

SUPPLEMENTARY INFORMATION: The Dania Beach Boulevard bridge, mile 1069.4 at Dania Beach, Broward County, Florida, has a vertical clearance of 22 feet at mean high water and a horizontal clearance of 45 feet between the down span and the fender system. The existing operating regulations in 33 CFR part 117 require the bridge to open on signal.

PCL Contractors notified the Coast Guard on April 16, 2002, that the work on the bascule leaves had started and due to a safety issue involving welding deck plates, they requested a 20 minute opening schedule. On April 22, 2002, the Coast Guard contacted the Florida Department of Transportation representative, URS, to discuss this request. It was determined that the contractor did need the bridge to be put on a 20 minute temporary operating schedule. Additionally, URS requested that the bridge be allowed to only open a single-leaf, with double-leaf openings available with a two-hour advance notice to the bridge tender. This action is necessary to facilitate worker's safety during repairs to the bridge without significantly hindering navigation, as a full opening will be provided with a two-hour advance notice to the bridge tender.

The District Commander has granted a temporary deviation from the operating requirements listed in 33 CFR 117.5 to complete repairs to the drawbridge. Under this deviation, the Dania Beach Boulevard bridge, mile 1069.4 at Dania Beach, need only open a single-leaf on the hour, 20 minutes after the hour, and 40 minutes after the hour from 12:01 a.m. on June 4, 2002, to 8 p.m. on July 31, 2002. A double-leaf opening will be available if two-hour advance notice is provided to the bridge tender from 12:01 a.m. on June 4, 2002, to 8 p.m. on July 31, 2002.

Dated: June 4, 2002.
Greg Shapley,
Chief, Bridge Administration Branch, Seventh Coast Guard District.

[FR Doc. 02-14969 Filed 6-12-02; 8:45 am]

BILLING CODE 4910-15-P